DEPARTMENT OF AGRICULTURE

Agricultural Marketing Service

7 CFR Part 1000

[Docket No. 23-J-0067; AMS-DA-23-0031]

Milk in the Northeast and Other Marketing Areas; Notice of Hearing on Proposed Amendments to Marketing Agreements and Orders

AGENCY: Agricultural Marketing Service, USDA.

ACTION: Notice of reconvened public hearing on proposed rulemaking.

SUMMARY: This notice announces the reconvening of the national public hearing which began on August 23, 2023, in Carmel, Indiana, to consider and take evidence on proposals to amend the pricing formulas in the 11 Federal Milk Marketing Orders (FMMOs).

DATES: The hearing will reconvene at 8:00 a.m. ET on Tuesday, January 16, 2024.

ADDRESSES: The reconvened hearing will be held at the 502 East Event Centre, 502 East Carmel Drive, Carmel, Indiana 46032. Telephone (317) 843-1234.

FOR FURTHER INFORMATION CONTACT: Erin Taylor, Director, Order Formulation and Enforcement Division, USDA/AMS/Dairy Programs, Stop 0225—Room 2530, 1400 Independence Avenue SW, Washington, DC 20250-0225, (202) 720-7311, Email: Erin.Taylor@usda.gov.

Persons requiring a sign language interpreter or other special accommodations should contact FMMOHearing@usda.gov a minimum of five days before the start of the hearing.

SUPPLEMENTARY INFORMATION:

Prior documents in this proceeding:

Notice of Hearing: Published July 24, 2023 (88 FR 47396).

Notice of Reconvened Hearing: Published November 6, 2023 (88 FR 76143).

Notice is hereby given that the hearing, which was recessed in Zionsville, Indiana, on December 8, 2023, by the Administrative Law Judge designated to hold said hearing and preside thereof, will reconvene at 8:00 a.m. ET on Tuesday, January 16, 2024, at the 502 East Event Centre, 502 East Carmel Drive, Carmel, Indiana, 46032. If the hearing is not completed by 5:00 p.m. ET on Friday, January 19, 2024, the hearing will reconvene at 8:00 a.m. ET on Monday, January 29, 2024, at the 502 East Event Centre. The hearing will be held from 8:00 a.m. ET until 5:00 p.m. ET each weekday. If not completed, the hearing will recess at 5:00 p.m. ET on Friday, February 2, 2024, and reconvene at a later date.

Dairy farmer virtual testimony will not be available. Dairy farmers may continue to testify in person at any time during the reconvened hearing. Dairy farmers testifying in person are not required to pre-submit testimony or exhibits.

List of Subjects in 7 CFR Part 1000

Milk marketing orders.

Erin Morris,
Associate Administrator, Agricultural Marketing Service.

[FR Doc. 2023-28762 Filed 12-28-23; 8:45 am]

BILLING CODE P